DEPARTMENT OF THE INTERIOR

Bureau of Reclamation

Colorado River Basin Salinity Control Advisory Council

AGENCY: Bureau of Reclamation, Interior.

ACTION: Notice of public meeting.

SUMMARY: The Colorado River Basin Salinity Control Advisory Council (Council) was established by the Colorado River Basin Salinity Control Act of 1974 (Public Law 93-320) (Act) to receive reports and advise Federal agencies on implementing the Act. In accordance with the Federal Advisory Committee Act, the Bureau of Reclamation announces that the Council will meet as detailed below.

DATES: The Advisory Council will conduct its annual meeting November 7, 2001. The meeting will begin at 10 a.m. and recess at 1 p.m.; it will reconvene briefly the following day at about 1 p.m.

To the extent that time permits, the Council chairman may allow public presentation of oral statements at the meeting. If you want to make an oral statement, written notice must be provided to David Trueman at the address listed below at least 5 days prior to the meeting. Any written comments received will be provided to the Advisory Council members at the meeting.

Any member of the public may file written statements with the Council before, during, or up to 30 days after the meeting, in person or by mail.

ADDRESSES: The meeting will be held in Conference Room B of the Arizona Department of Water Resources Building, 500 North Third Street, Phoenix, Arizona.

Send written comments and requests to make oral presentations to David Trueman, Bureau of Reclamation, Upper Colorado Regional Office, 125 South State Street, Room 6107, Salt Lake City, Utah 84138-1102; faxogram (801) 524-5499; e-mail at: drueman@uc.usbr.gov.

FOR FURTHER INFORMATION CONTACT: David Trueman, telephone (801) 524-3753.

SUPPLEMENTARY INFORMATION: The meeting of the Council is open to the public. To the extent that time permits, the Council chairman may allow public presentation of oral statements at the meeting. See the DATES and ADDRESSES sections above for information on how to submit written comments and/or make oral statements. Any written comments received will be provided to the Advisory Council members at the meeting.

Agenda

The purpose of the meeting will be to discuss the accomplishments of Federal agencies and make recommendations on future activities to control salinity. Council members will be briefed on the status of salinity control activities and receive input for drafting the Council's annual report. The Department of the Interior, the Department of Agriculture, and the Environmental Protection Agency will each present a progress report had a schedule of activities on salinity control in the Colorado River Basin. The Council will discuss salinity control activities and the content of their report.

Public Disclosure Statement

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or business, available for public disclosure in their entirety.

Dated: October 4, 2001.
John W. Keys III,
Commissioner, Bureau of Reclamation.

[FR Doc. 01-26307 Filed 10-17-01; 8:45 am]

BILLING CODE 4310-MN-M